DEPARTMENT OF HEALTH AND HUMAN SERVICES

National Institutes of Health

Center for Scientific Review; Amended Notice of Meeting

Notice is hereby given of a change in the meeting of the Macromolecular Structure and Function C Study Section, February 6, 2014, 08:00 a.m. to February 7, 2014, 07:00 p.m., Marriott at Metro Center, 775 12th Street NW., Washington, DC 20005 which was published in the Federal Register on January 8, 2014, 79 FR 2180.

The meeting will start on February 6, 2014 at 8:00 a.m. and end on February 6, 2014 at 7:00 p.m. The meeting location remains the same. The meeting is closed to the public.

Dated: January 15, 2014.
David Clary,
Program Analyst, Office of Federal Advisory Committee Policy.

[FR Doc. 2014-01120 Filed 1-21-14; 8:45 am]

BILLING CODE 4140-01-P